DEPARTMENT OF ENERGY

Federal Energy Regulatory Commission

Combined Notice of Filings #1

Take notice that the Commission received the following electric corporate filings:

Docket Numbers: EC13-93-000.

Applicants: Ameren Energy Generating Company, AmerenEnergy Resources Generating Company, Ameren Energy Marketing Company, Electric Energy, Inc., Midwest Electric Power, Inc., AmerenEnergy Medina Valley Cogen, L.L.C., Dynegy Inc.

Description: Ameren Energy Generating Company et al submit supplemental information filing re the Simultaneous Import Limitation study.

Filed Date: 5/9/13.

Accession Number: 20130510-0005.

Comments Due: 5 p.m. ET 6/17/13.

Take notice that the Commission received the following exempt wholesale generator filings:

Docket Numbers: EG13-35-000.

Applicants: Cabrillo Power I LLC.

Description: Self-Certification of EG of Cabrillo Power I LLC.

Filed Date: 5/9/13.

Accession Number: 20130509-5122.

Comments Due: 5 p.m. ET 5/30/13.

Take notice that the Commission received the following electric rate filings:

Docket Numbers: ER10-2763-008; ER10-2732-008; ER10-2733-008 ER10-2734-008; ER10-2736-008; ER10-2737-008 ER10-2741-008; ER10-2749-008; ER10-2752-008 ER12-2492-004; ER12-2493-004; ER12-2494-004 ER12-2495-004; ER12-2496-004.

Applicants: Bangor Hydro Electric Company, Emera Energy Services, Inc., Emera Energy U.S. Subsidiary No. 1, Inc. Emera Energy U.S. Subsidiary No. 2, Inc., Emera Energy Services Subsidiary No. 1 LLC, Emera Energy Services Subsidiary No. 2 LLC, Emera Energy services Subsidiary No. 3 LLC, Emera Energy Services Subsidiary No. 4 LLC, Emera Energy Services Subsidiary No. 5 LLC, Emera Energy Services Subsidiary No. 6 LLC, Emera Energy Services Subsidiary No. 7 LLC, Emera Energy Services Subsidiary No. 8 LLC, Emera Energy Services Subsidiary No. 9 LLC, Emera Energy Services Subsidiary No. 10 LLC.

Description: Supplement to April 22, 2013 Notice of Change in Status of Bangor Hydro Electric Company, et al.

Filed Date: 5/10/13.

Accession Number: 20130510-5032.

Comments Due: 5 p.m. ET 5/31/13.

Docket Numbers: ER10-2985-009; ER10-3049-010; ER10-3051-010.

Applicants: Champion Energy Marketing LLC, Champion Energy Services, LLC, Champion Energy, LLC.

Description: Second Supplement to January 9, 2013 Updated Market Power Analysis for the Southwest Region of Champion Energy Marketing LLC, et al.

Filed Date: 5/9/13.

Accession Number: 20130509-5052.

Comments Due: 5 p.m. ET 5/30/13.

Docket Numbers: ER11-4267-006; ER11-4270-006; ER11-4269-007; ER11-4268-006; ER11-113-007; ER10-2682-006 ER12-1680-004; ER11-4694-003.

Applicants: Algonquin Energy Services Inc., Algonquin Power Windsor Locks LLC, Algonquin Tinker Gen Co., Algonquin Northern Maine Gen Co., Sandy Ridge Wind, LLC, Granite State Electric Company, Minonk Wind, LLC, GSG 6, LLC.

Description: Supplement to April 26, 2013 Notice of Change in Status of Algonquin Energy Services Inc., et al.

Filed Date: 5/8/13.

Accession Number: 20130508-5094.

Comments Due: 5 p.m. ET 5/29/13.

Docket Numbers: ER13-909-001.

Applicants: New York Independent System Operator, Inc.

Description: NYISO Response to Request for Further Information re: Scarcity Pricing to be effective 7/8/2013.

Filed Date: 5/9/13.

Accession Number: 20130509-5107.

Comments Due: 5 p.m. ET 5/30/13.

Docket Numbers: ER13-1348-000.

Applicants: Gainesville Renewable Energy Center.

Description: Supplement to April 26, 2013 Application for Market Based Rate Authority of Gainesville Renewable Energy Center.

Filed Date: 5/10/13.

Accession Number: 20130510-5121.

Comments Due: 5 p.m. ET 5/20/13.

Docket Numbers: ER13-1368-001.

Applicants: NaturEner Wind Watch, LLC.

Description: Supplement to Market-Based Rate Application to be effective 5/1/2013.

Filed Date: 5/10/13.

Accession Number: 20130510-5027.

Comments Due: 5 p.m. ET 5/31/13.

Docket Numbers: ER13-1445-000.

Applicants: Avista Corporation.

Description: Avista Corp Electric Tariff Vol. No. 9 Revisions to be effective 5/10/2013.

Filed Date: 5/9/13.

Accession Number: 20130509-5108.

Comments Due: 5 p.m. ET 5/30/13.

Docket Numbers: ER13-1446-000.

Applicants: Southwest Power Pool, Inc.

Description: Request for Waiver of Tariff Provision and Expedited Treatment of Southwest Power Pool, Inc.

Filed Date: 5/9/13.

Accession Number: 20130509-5109.

Comments Due: 5 p.m. ET 5/20/13.

Docket Numbers: ER13-1451-000.

Applicants: Southwestern Public Service Company.

Description: Southwestern Public Service Company submits 5-10-13_RS114 SPS-Central Valley to be effective 1/1/2012.

Filed Date: 5/10/13.

Accession Number: 20130510-5095.

Comments Due: 5 p.m. ET 5/31/13.

Docket Numbers: ER13-1452-000.

Applicants: Southwestern Public Service Company.

Description: Southwestern Public Service Company submits 5-10-13_RS116 SPS-Lea County to be effective 1/1/2012.

Filed Date: 5/10/13.

Accession Number: 20130510-5096.

Comments Due: 5 p.m. ET 5/31/13.

Docket Numbers: ER13-1453-000.

Applicants: Southwestern Public Service Company.

Description: Southwestern Public Service Company submits 5-10-13_RS117 SPS-Roosevelt to be effective 1/1/2012.

Filed Date: 5/10/13.

Accession Number: 20130510-5097.

Comments Due: 5 p.m. ET 5/31/13.

Docket Numbers: ER13-1454-000.

Applicants: Southwestern Public Service Company.

Description: Southwestern Public Service Company submits 5-10-13_RS118 SPS-Sharyland to be effective 1/1/2012.

Filed Date: 5/10/13.

Accession Number: 20130510-5098.

Comments Due: 5 p.m. ET 5/31/13.

Docket Numbers: ER13-1455-000.

Applicants: Southwestern Public Service Company.

Description: Southwestern Public Service Company submits 5-10-13_RS135 SPS-GSEC to be effective 1/1/2012.

Filed Date: 5/10/13.

Accession Number: 20130510-5099.

Comments Due: 5 p.m. ET 5/31/13.

Docket Numbers: ER13-1456-000.

Applicants: Southwestern Public Service Company.

Description: Southwestern Public Service Company submits 5-10-13_RS137 SPS-WTMPA to be effective 1/1/2012.

Filed Date: 5/10/13.

Accession Number: 20130510-5100.

Comments Due: 5 p.m. ET 5/31/13.

Docket Numbers: ER13-1458-000.

Applicants: Southwestern Public Service Company.

Description: 5-10-13_RS115 SPS-Farmers to be effective 1/1/2012.

Filed Date: 5/10/13.

Accession Number: 20130510-5102.

Comments Due: 5 p.m. ET 5/31/13.

Docket Numbers: ER13-1459-000.

Applicants: ISO New England Inc.

Description: ISO New England Inc., Capital Budget Quarterly Filing for First Quarter of 2013.

Filed Date: 5/10/13.

Accession Number: 20130510-5109.

Comments Due: 5 p.m. ET 5/31/13.

Docket Numbers: ER13-1464-000.

Applicants: Public Service Company of New Hampshire.

Description: Public Service Company of New Hampshire Cancellation of Design, Engineering and Procurement Agreement to be effective 5/9/2012.

Filed Date: 5/10/13.

Accession Number: 20130510-5129.

Comments Due: 5 p.m. ET 5/31/13.

Take notice that the Commission received the following land acquisition reports:

Docket Numbers: LA13-1-000.

Applicants: East Coast Power Linden Holding, L.L.C., Cogen Technologies Linden Venture, L.P., Birchwood Power Partners, L.P., Shady Hills Power Company, L.L.C., EFS Parlin Holdings, LLC, Inland Empire Energy Center, LLC, Homer City Generation, L.P.

Description: Quarterly Land Acquisition Report of the GE Companies.

Filed Date: 4/30/13.

Accession Number: 20130430-5227.

Comments Due: 5 p.m. ET 5/21/13.

Take notice that the Commission received the following open access transmission tariff filings:

Docket Numbers: OA13-5-000.

Applicants: Patua Project LLC.

Description: Patua Project LLC submits Petition for Waiver of Requirements of Order Nos. 888, 889 and 890, and the Standards of Conduct.

Filed Date: 5/6/13.

Accession Number: 20130506-5135.

Comments Due: 5 p.m. ET 5/28/13.

Take notice that the Commission received the following electric reliability filings:

Docket Numbers: RD13-10-000.

Applicants: North American Electric Reliability Corporation.

Description: Petition of North American Electric Reliability Corporation for Approval of the NERC Glossary Terms “Bulk-Power System,” “Reliable Operation,” and “Reliability Standard.”

Filed Date: 5/10/13.

Accession Number: 20130510-5033.

Comments Due: 5 p.m. ET 5/31/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 10, 2013.
Nathaniel J. Davis, Sr.,
Deputy Secretary.

[FR Doc. 2013-11806 Filed 5-16-13; 8:45 am]

BILLING CODE 6717-01-P